DEPARTMENT OF THE INTERIOR

National Park Service

Harpers Ferry National Historical Park, West Virginia; Notice of Availability

AGENCY: Department of the Interior, National Park Service.

ACTION: Notice of Availability of the Draft Environmental Impact Statement for the General Management Plan, Harpers Ferry National Historical Park.

SUMMARY: The National Park Service announces the availability of the Draft Environmental Impact Statement for the General Management Plan for Harpers Ferry National Historical Park, West Virginia. This document will be available for public review and comment pursuant to Section 102(2)(C) of the National Environment Policy Act of 1969, 42 U.S.C. 4332(2)(C).

DATES: A 60-day public comment period will begin with the Environmental Protection Agency's publication of its Notice of Availability in the Federal Register.

ADDRESSES: Copies of the Draft Environmental Impact Statement and the General Management Plan are available at Harpers Ferry National Historical Park, P.O. Box 65, Harpers Ferry, West Virginia 25425. An electronic copy of the Draft Environmental Impact Statement and General Management Plan is also available on the National Park Service Web site at http://parkplanning.nps.gov/hafe.

FOR FURTHER INFORMATION CONTACT: Rebecca Harriett, Superintendent, Harpers Ferry National Historical Park, at Harpers Ferry National Historical Park, P.O. Box 65, Harpers Ferry, West Virginia 25425, or by telephone at (304) 535-6224. The responsible official for the Draft Environmental Impact Statement is Margaret O'Dell, Regional Director, National Capital Region, National Park Service, 1100 Ohio Drive, SW., Washington, DC 20242.

SUPPLEMENTARY INFORMATION: The document provides a framework for management, use, and development options for Harpers Ferry National Historical Park by the National Park Service for the next 15 to 20 years. The document describes three management alternatives for consideration, including a no-action alternative, and analyzes the environmental impacts of those alternatives for all units of Harpers Ferry National Historical Park.

The National Park Service preferred alternative would continue the use of several buildings for park headquarters, rehabilitate the historic Shipley School, increase preservation of historic resources throughout the park, consolidate visitor information and education in a new visitor center on Cavalier Heights, provide increased bus service and new trail services, and incorporate new visitor amenities.

The public is welcome to comment on the Draft Environmental Impact Statement and General Management Plan at http://parkplanning.nps.gov/hafe or by mail at Harpers Ferry National Historical Park, P.O. Box 65, Harpers Ferry, West Virginia 25425.

Before including your address, phone number, e-mail address or other personal identifying information in your comment, you should be aware that your entire comment, including your personal identifying information, may be made publicly available at any time. While you can ask us in your comment to withhold your personal identifying information from public review, we cannot guarantee that we will be able to do so.

Dated: January 8, 2009.
Margaret O'Dell,
Regional Director, National Capital Region.

Editorial Note: This document was received at the Office of the Federal Register on August 4, 2009.

[FR Doc. E9-18997 Filed 8-6-09; 8:45 am]

BILLING CODE 4312-JT-P